DEPARTMENT OF COMMERCE

National Oceanic and Atmospheric Administration

[I.D. 091304B]

Marine Mammals; File No. 87-1743

AGENCY: National Marine Fisheries Service (NMFS), National Oceanic and Atmospheric Administration (NOAA), Commerce.

ACTION: Issuance of permit and notice of request for additional species.

SUMMARY: Notice is hereby given that Dr. Daniel Costa, Department of Biology and Institute of Marine Sciences, University of California, Santa Cruz, California 95064 has been issued a permit to conduct scientific research on northern elephant seals (Mirounga angustirostris). Notice is also given that California sea lions (Zalophus californianus) may be incidentally harassed during the research, and this activity is requested for inclusion in the permit.

DATES: Written, telefaxed, or e-mail comments must be received on or before October 25, 2004.

ADDRESSES: The application and related documents are available for review upon written request or by appointment in the following office(s):

Permits, Conservation and Education Division, Office of Protected Resources, NMFS, 1315 East-West Highway, Room 13705, Silver Spring, MD 20910; phone (301)713-2289; fax (301)713-0376.

Written comments or requests for a public hearing should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile to (301)713-0376, provided the facsimile is confirmed by hard copy submitted by mail and postmarked no later than the closing date of the comment period.

Comments may also be submitted by e-mail. The mailbox address for providing email comments is NMFS.Pr1Comments@noaa.gov. Include in the subject line of the e-mail comment the applicable document identifier: File No. 87-1743.

FOR FURTHER INFORMATION CONTACT: Amy Sloan or Ruth Johnson, 301/713-2289.

SUPPLEMENTARY INFORMATION: On April 7, 2004, notice was published in the Federal Register (69 FR 18352) that a request for a scientific research permit to take northern elephant seals had been submitted by the above-named individual. The requested permit has been issued under the authority of the Marine Mammal Protection Act of 1972, as amended (16 U.S.C. 1361 et seq.), and the Regulations Governing the Taking and Importing of Marine Mammals (50 CFR part 216). The original notice and application did not include incidental harassment of California sea lions, which is requested for inclusion in the permit.

The permit authorizes continuation of a long-term study examining northern elephant seal population growth and status, mating and reproductive strategies, behavioral and physiological adaptations for diving, general physiology and metabolism, energetics of reproduction and foraging, sleep apnea, and sensory capacities. The permit will expire five years after the date of issuance.

In compliance with the National Environmental Policy Act of 1969 (42 U.S.C. 4321 et seq.), an environmental assessment was prepared analyzing the effects of the research activities. After a Finding of No Significant Impact, the determination was made that it was not necessary to prepare an environmental impact statement.

Dated: September 17, 2004.
Stephen L. Leathery,
Chief, Permits, Conservation and Education Division, Office of Protected Resources, National Marine Fisheries Service.

[FR Doc. 04-21402 Filed 9-22-04; 8:45 am]

BILLING CODE 3510-22-S